DEPARTMENT OF THE INTERIOR

National Park Service

[NPS-WASO-NAGPRA-18273]; [PPWOCRADN0-PCU00RP14.R50000]

Notice of Inventory Completion: U.S. Department of the Interior, National Park Service, Glen Canyon National Recreation Area, Page, AZ

AGENCY: National Park Service, Interior.

ACTION: Notice.

SUMMARY: The U.S. Department of the Interior, National Park Service, Glen Canyon National Recreation Area has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Glen Canyon National Recreation Area. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Glen Canyon National Recreation Area at the address in this notice by July 9, 2015.

ADDRESSES: Todd Brindle, Superintendent, Glen Canyon National Recreation Area, P.O. Box 1507, Page, AZ 86040, telephone (928) 608-6200, email Todd_Brindle@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Glen Canyon National Recreation Area, Page, AZ. The human remains and associated funerary objects were removed from within the boundaries of Glen Canyon National Recreation Area, in Garfield, Kane, and San Juan Counties, UT.

This notice is published as part of the National Park Service's administrative responsibilities under NAGPRA, 25 U.S.C. 3003(d)(3). The determinations in this notice are the sole responsibility of the Superintendent, Glen Canyon National Recreation Area.

Consultation

A detailed assessment of the human remains was made by Glen Canyon National Recreation Area professional staff in consultation with representatives of the Havasupai Tribe of the Havasupai Reservation, Arizona; Hopi Tribe of Arizona; Hualapai Indian Tribe of the Hualapai Indian Reservation, Arizona; Kaibab Band of Paiute Indians of the Kaibab Indian Reservation, Arizona; Navajo Nation, Arizona, New Mexico, & Utah; Ohkay Owingeh, New Mexico (previously listed as the Pueblo of San Juan); Pueblo of Nambe, New Mexico; Pueblo of Pojoaque, New Mexico; San Juan Southern Paiute Tribe of Arizona; Ute Mountain Tribe of the Ute Mountain Reservation, Colorado, New Mexico, & Utah; and Zuni Tribe of the Zuni Reservation, New Mexico.

History and Description of the Remains

In 1969, human remains representing, at minimum, two individuals were removed from site NA10555 in San Juan County, UT, during unauthorized excavations by park visitors and subsequent inspection of the site by Glen Canyon National Recreation Area officials. No known individuals were identified. The 50 associated funerary objects are 2 cradleboards, 1 frame, 4 pieces of padding, 2 hoods, 1 cloth, 1 animal hide, 1 blanket, 1 blanket fragment, 3 pieces of worked wood, 1 tumpstrap, 14 pieces of cordage, 2 pieces of raw fiber, 2 bundles, 1 rope segment, 2 knots, 3 sandals, 1 ladle fragment, 7 squash seeds, and 1 Kayenta Black-on-white bowl.

The cradleboard construction style and the associated ceramics indicate that the remains are Kayenta Ancestral Puebloan and are dated between A.D. 1200 and 1250.

In 1975, human remains representing, at minimum, two individuals were removed from site NA14080 in San Juan County, UT by a park visitor. No known individuals were identified. The one associated funerary object is a yucca knot.

Site NA14080 is a one room structure whose style of masonry architecture indicates occupation during the Puebloan period (A.D. 800-1300) and association with the Kayenta culture.

In 1976 and 1977, human remains representing, at minimum, two individuals were removed from site 42SA5379 in San Juan County, UT, during legally authorized excavations. No known individuals were identified. No associated funerary objects are present.

Site 42SA5379 is a single habitation room on an alluvial terrace. Artifact types and radiocarbon dating identify the site as Kayenta or Mesa Verde Ancestral Puebloan, dated between A.D. 1000 and 1300.

In 1983, human remains representing, at minimum, three individuals were removed from site 42KA2661 in Kane County, UT, after the site was inundated and disturbed by high water levels in Lake Powell. Human remains found on the surface by park visitors were turned over to Glen Canyon National Recreation Area officials and additional remains were removed during subsequent legally authorized excavations. No known individuals were identified. The 39 associated funerary objects are 1 projectile point, 1 knife (made up of two fragments, 9 biface fragments, 1 piece of debitage, 2 shell beads, 24 pieces of cordage, and 1 yucca knot.

Site 42KA2661 is located in an alcove in the vertical face of a Navajo sandstone cliff and was used solely for burials. The associated funerary objects and radiocarbon dating identify the site as Basketmaker II, dated between 790 and 275 B.C.

In 1983, human remains representing, at minimum, one individual were removed from site 42SA22786 in San Juan County, UT, by park visitors. The human remains were turned over to the New Mexico Office of the Medical Investigator, which contacted Glen Canyon National Recreation Area officials. Glen Canyon National Recreation Area archeologists subsequently undertook archeological excavations at the burial location. No known individuals were identified. The 210 associated artifacts are 190 segments of cordage (161 feather-wrapped, 20 probable cotton, 9 yucca), 1 corn cob, 11 bundles of yucca fiber, and 8 feather tufts.

The manufacturing technique of the various cordage pieces and the other organic remains from the burial are consistent with cultural material from the Kayenta Ancestral Puebloan tradition, which dates between A.D. 800 and 1300. Radiocarbon dating of the burial corresponds to this time period as well.

In 1985, human remains representing, at minimum, one individual were removed from site 42GA3051 in Garfield County, UT, during a legally authorized archeological survey by Northern Arizona University. The single piece of human cranial bone was collected from the surface of the site. No known individuals were identified. No associated funerary objects are present.

Ceramic types on the surface at 42GA3051 suggest a Fremont and/or Ancestral Puebloan identification for the site, dating between A.D. 1000 and 1300.

Evidence demonstrating continuity between the prehistoric Basketmaker, Ancestral Puebloan, and Fremont cultures and the modern Hopi and Zuni tribes includes similarities in material culture, architectural styles, and mortuary practices, as well as oral histories. Recent studies by physical anthropologists also indicate a close biological relationship among these prehistoric culture groups and the modern Hopi and Zuni peoples. Specific material culture that links the prehistoric and modern groups includes textiles and painted ceramic vessels, which are characterized by distinctive methods of manufacture and design styles. Architectural styles, masonry techniques, and certain structure types suggest cultural continuity between prehistoric and modern groups. Continuity in mortuary practices, including interment in a flexed or semi-flexed position within structures or in prepared cists within alcoves; preparation of burials by wrapping in textiles; and the inclusion of offerings such as utilitarian tools, ornaments, and painted ceramic vessels that held food and water also support cultural affiliation.

Hopi and Zuni oral histories indicate their ancestors lived in the region now within and adjacent to Glen Canyon National Recreation Area. At least three Hopi clans lived near Navajo Mountain and Rainbow Bridge and in the adjacent canyon systems along the Colorado and San Juan Rivers prior to migrating southeast to join other clans at the modern Hopi villages on southern Black Mesa. Numerous habitation sites and shrines are recognized by those Hopi clans, some of which are still visited to make offerings or collect plants and minerals. Distinctive rock art elements or panels are also referenced by oral history and clan traditions.

Zuni oral history indicates that after emergence into this world, medicine societies migrated northward along the east side of the Colorado River and then eastward, eventually meeting other Zuni people at their current homeland. Sites along this route, now within or adjacent to Glen Canyon National Recreation Area, are important in Zuni ceremonial traditions because they are affiliated with medicine societies.

Determinations Made by Glen Canyon National Recreation Area

Officials of Glen Canyon National Recreation Area have determined that:

• Pursuant to 25 U.S.C. 3001(9), the human remains described in this notice represent the physical remains of 11 individuals of Native American ancestry.

• Pursuant to 25 U.S.C. 3001(3)(A), the 300 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona and the Zuni Tribe of the Zuni Reservation, New Mexico.

Additional Requestors and Disposition

Lineal descendants or representatives of any Indian tribe or Native Hawaiian organization not identified in this notice that wish to request transfer of control of these human remains and associated funerary objects should submit a written request with information in support of the request to Todd Brindle, Superintendent, Glen Canyon National Recreation Area, P.O. Box 1507, Page, AZ 86040, telephone (928) 608-6200, email Todd_Brindle@nps.gov, by July 9, 2015. After that date, if no additional requestors have come forward, transfer of control of the human remains and associated funerary objects to the Hopi Tribe of Arizona and the Zuni Tribe of the Zuni Reservation, New Mexico may proceed.

Glen Canyon National Recreation Area is responsible for notifying the Havasupai Tribe of the Havasupai Reservation, Arizona; Hopi Tribe of Arizona; Hualapai Indian Tribe of the Hualapai Indian Reservation, Arizona; Kaibab Band of Paiute Indians of the Kaibab Indian Reservation, Arizona; Navajo Nation, Arizona, New Mexico, & Utah; Ohkay Owingeh, New Mexico (previously listed as the Pueblo of San Juan); Pueblo of Nambe, New Mexico; Pueblo of Pojoaque, New Mexico; San Juan Southern Paiute Tribe of Arizona; Ute Mountain Tribe of the Ute Mountain Reservation, Colorado, New Mexico, & Utah; and Zuni Tribe of the Zuni Reservation, New Mexico that this notice has been published.

Dated: May 6, 2015.
Mariah Soriano,
Acting Manager, National NAGPRA Program.

[FR Doc. 2015-14112 Filed 6-8-15; 8:45 am]

BILLING CODE 4312-50-P